DEPARTMENT OF THE INTERIOR

Bureau of Land Management

[LLORW00000.L16100000.DF0000. LXSSH1080000.16XL1109AF. HAG16-0145]

Notice of Public Meeting for the San Juan Islands National Monument Advisory Committee

AGENCY: Bureau of Land Management, Interior.

ACTION: Notice of public meeting.

SUMMARY: In accordance with the Federal Land Policy and Management Act and the Federal Advisory Committee Act, the Bureau of Land Management's (BLM) San Juan Islands National Monument Advisory Committee (MAC) will meet as indicated below.

DATES: The MAC will meet on Friday, June 10th, 2016 from 8:30 a.m. to 4:00 p.m. at the San Juan Island Grange, 152 N 1st Street, Friday Harbor, Washington 98250. Meeting topics include a question and answer session, discussion of the analysis of the management situation, and a report out on how public input, including from the MAC, has been incorporated into the preliminary range of alternatives for the management of human use within the Monument.

FOR FURTHER INFORMATION CONTACT: Marcia deChadenèdes, San Juan Islands National Monument Manager, P.O. Box 3, 37 Washburn Ave., Lopez Island, Washington 98261, (360) 468-3051, or mdechade@blm.gov. Persons who use a telecommunications device for the deaf (TDD) may call the Federal Information Relay Service (FIRS) at 1(800) 877-8339 to contact the above individual during normal business hours. The FIRS is available 24 hours a day, 7 days a week, to leave a message or question with the above individual. You will receive a reply during normal business hours.

SUPPLEMENTARY INFORMATION: The twelve-member San Juan Islands MAC was chartered to provide information and advice regarding the development of the San Juan Islands National Monument's RMP. Members represent an array of stakeholder interests in the land and resources from within the local area and statewide. All advisory committee meetings are open to the public. During the meeting, at 12:30 p.m. and 3:30 p.m., members of the public will have the opportunity to make comments to the MAC during one-hour public comment periods. Persons wishing to make comments during the public comment period should register in person with the BLM by 12:00 noon or 3:00 p.m. (depending on the desired comment period) on that meeting day, at the meeting location. Depending on the number of persons wishing to comment, the length of comments may be limited. The public may send written comments to the MAC at San Juan Islands National Monument, Attn. MAC, P.O. Box 3, 37 Washburn Ave., Lopez Island, Washington 98261. The BLM appreciates all comments.

Linda Clark,
Spokane District Manager.

[FR Doc. 2016-12864 Filed 5-31-16; 8:45 am]

BILLING CODE 4310-33-P